DEPARTMENT OF TRANSPORTATION

Office of the Secretary

Aviation Proceedings, Agreements Filed the Week Ending August 17, 2007

The following Agreements were filed with the Department of Transportation under the sections 412 and 414 of the Federal Aviation Act, as amended (49 U.S.C. 1383 and 1384) and procedures governing proceedings to enforce these provisions. Answers may be filed within 21 days after the filing of the application.

Docket Number: OST-2007-29051.

Date Filed: August 17, 2007.

Parties: Members of the International Air Transport Association.

Subject: Mail Vote 547 Adoption—Resolutions TC31 South Pacific (except between South West Pacific and Canada, USA).

Intended effective date: 1 October 2007.

Renee V. Wright,
Program Manager, Docket Operations, Federal Register Liaison.

[FR Doc. E7-18570 Filed 9-19-07; 8:45 am]

BILLING CODE 4910-9X-P